DEPARTMENT OF AGRICULTURE

Forest Service

The Northwest Forest Plan Area Advisory Committee

AGENCY: Forest Service, Agriculture (USDA).

ACTION: Notice of intent to establish an advisory committee and call for nominations.

SUMMARY: The Forest Service intends to establish the Northwest Forest Plan Area Advisory Committee (the Committee), subject to the Secretary of Agriculture's approval. In accordance with provisions of the Federal Advisory Committee Act (FACA), the Committee is being established to provide advice and recommendations on landscape management approaches that promote sustainability, climate change adaptations, and wildfire resilience while providing for increasing use of and demands from National Forest System lands in the Northwest Forest Plan area. The Committee is necessary and in the public interest. Therefore, the Secretary of Agriculture is also seeking nominations for individuals to be considered as committee members. DATES: Written nominations must be submitted electronically or post-marked by January 17, 2023. Nominations must contain a completed application packet that includes the cover letter, resume, references, and completed form AD-755 (Advisory Committee Membership Background Information). The form AD-755 may be obtained from the Forest Service contact person or from the following website: https://www.usda.gov/sites/default/files/documents/ad-755.pdf. The package must be sent to either the email address or mailing address listed in the ADRESSESS. Electronic submission is preferred.

ADDRESSES: Please submit nominations and applications to Glenn Casamassa, Regional Forester, Pacific Northwest Region at sm.fs.NWFP_FACA@usda.gov and include the phrase `FACA Nomination' in the subject line. If sending by express mail, overnight courier service, or the U.S. Postal Service, use the following address: Regional Forester Glenn Casamassa, c/o NWFP FACA Team, 1220 SW 3rd Avenue, Portland, OR 97204.

FOR FURTHER INFORMATION CONTACT: Mark Brown, U.S. Department of Agriculture, Forest Service at 971-712-4369; Nick Goldstein, Forest Service at 503-347-1765; or email the NWFP FACA team at sm.fs.NWFP_FACA@usda.gov. Individuals who use telecommunication devices for the deaf (TDD) may call the Federal Information Relay Service (FIRS) at 800 877-8339, 24 hours a day, every day of the year, including holidays.

SUPPLEMENTARY INFORMATION: In accordance with the provisions of the Federal Advisory Committee Act (FACA), as amended (5 U.S.C. app. 2), with the concurrence of the General Services Administration (GSA), and subject to the approval of the Secretary of Agriculture, the Forest service intends to establish the Federal Advisory Committee for sustainable, climate-adapted, wildfire-resilient landscapes across the Northwest Forest Plan Area. The Committee will be a discretionary advisory committeeand will operate under the provisions of the FACA and report to the Secretary of Agriculture through the Chief of the Forest Service.

The purpose of the Committee is to provide advice and recommendations on landscape management approaches that promote sustainability, climate change adapations, and wildfire resilience while providing for increasing use of and demands from National Forest System lands in the Northwest Forest Plan area. Accordingly, the Committee will be asked to perform the following duties or fulfill other requests made by the Secretary of Agriculture or the Chief of the Forest Service by offering recommendations on:

1. Planning options that complement the national Wildfire Crisis Strategy to assist the U.S. Forest Service transition to greater proactive wildfire risk reduction and related vegetation management.

2. Approaches to address the dynamic nature of ecosystems, utilize adaptive management, monitoring, and integration of future uncertainty into land management planning.

3. Application of the best available science regarding the following primary issues: (a) the ecological importance of mature and old growth forests; (b) climate change, fire, and associated disturbance processes; (c) terrestrial and aquatic reserved land use allocations and the relationship between the two; (d) the climatic diversity of forests encompassed by the NWFP area; and, (e) habitat connectivity at multiple scales in light of changed conditions.

4. Incorporation of traditional ecological knowledge and indigenous perspectives and values into federal forest planning and management.

5. Communication tools and strategies to: (a) help provide greater understanding of landscape or programmatic level planning options and requirements and (b) enhance outreach efforts, public engagement, meaningful Tribal consultation and participation, targeted outreach to underserved communities, and stakeholder collaboration within the scope of the Committee.

6. Issue preliminary discrete recommendations in sequence with Forest Service NWFP planning timelines.

The Committee is expected to need two years to carry out its objectives. All deliverables will be submitted to the Designated Federal Official (DFO) according to planning schedule needs. The Committee will meet approximately 4 to 6 times annually or as often as necessary and at such times as designated by the DFO. Subcommittees may meet more frequently. Attendance may be in-person, by telephone, or by other electronic means. Meetings of the Committee whether in person, by telephone or electronic means shall be announced 15 calendar days in advance in the Federal Register as required by the FACA.

The Committee will hold open meetings unless the Secretary determines that a meeting or a portion of a meeting should be closed to the public in accordance with subsection C of section 522(b) of title 5, United States Code. All proceedings and relevant documents will be posted and made accessible to the public. No individual who is currently registered as a federal lobbyist is eligible to serve as a member of the Committee.

Overview and Memberships

The committee will be comprised of 20 members approved by the Secretary of Agriculture with each member serving a two-year term. The Committee membership will be balanced in terms of the points of view represented and functions to be performed. Members of the Committee will serve without compensation but may be reimbursed for travel expenses while performing duties on behalf of the Committee, subject to approval by the DFO and the Department. The Committee should represent to the extent possible, a balance across the three states covered by the NWFP (Oregon, Washington, California) and reflect the demographic diversity of the NWFP area. The Committee shall include representation from experts in the following interest areas:

(1) Science: Up to 9 members who represent the scientific community, and have an understanding in the following disciplines and how they relate to the NWFP area:

(a) Forest ecology

(b) Vegetation management

(c) Fire ecology

(d) Terrestrial wildlife ecology

(e) Aquatic and riparian ecosystems and species

(f) Climate change

(e) Social science

(g) Adaptive management and planning

(h) Indigenous traditional ecological knowledge (ITEK) practitioners.

(2) Organizations: Up to 7 members who represent a broad array of organizations with an interest in NWFP forests:

(a) National, regional, or local conservation organizations with staff and active programs in the Pacific Northwest

(b) Forest products industry

(c) Recreation organization

(d) Organization involved in outreach with underserved communities

(e) Forest collaborative groups

(f) Wildlife organization

(g) Watershed organization.

(3) Government and public: Up to 4 members who represent governmental entities or the public at-large:

(a) Member of the affected public at large

(b) Represent state governments

(c) Represent counties

(d) Represent American Indian Tribes.

Nomination and Application Information

The appointment of members to the Committee will be made by the Secretary of Agriculture. Any individual or organization may nominate one or more qualified persons to serve on the Federal Advisory Committee for sustainable, climate-adapted, wildfire-resilient landscapes across the Northwest Forest Plan Area. Individuals may also nominate themselves. To be considered for membership, nominees must submit a:

1. Cover letter identifying what interest area group(s) listed above the nominee would represent, how they are qualified to represent that interest group, and why they want to serve on the Committee.

2. Three references that may be contacted about the nominee's application.

3. A resume describing in detail the nominee's qualifications for membership to the Committee.

4. A completed form AD-755, Advisory Committee Membership Background Information. The form AD-755 may be obtained from the Forest Service contact person or from the following website: https://www.usda.gov/sites/default/files/documents/ad-755.pdf.

5. Letters of recommendation are welcome. All nominations will be vetted by the Agency and the Secretary of Agriculture will appoint committee members from the list of qualified applicants. Members serve at the pleasure of the Secretary.

Submit nominations and applications to the addressee listed in this notice.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA policies shall be followed in all membership appointments to the Committee. To ensure that the recommendations of the Committee have taken into account the needs of the diverse groups served by USDA, membership shall, to the extent practicable, include individuals with demonstrated ability to represent all racial and ethnic groups, gender diversity, and persons with disabilities.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English. USDA is an equal opportunity provider, employer, and lender.

Dated: November 15, 2022.
Cikena Reid,
USDA Committee Management Officer.

[FR Doc. 2022-25184 Filed 11-17-22; 8:45 am]

BILLING CODE 3411-15-P